DEPARTMENT OF COMMERCE

National Oceanic and Atmospheric Administration

[RTID 0648-XB734]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-and-a-half-day meeting of its Coral Advisory Panel (AP) and Scientific and Statistical Committee (SSC) via webinar.

DATES: The meeting will take place Monday, February 7, 2022, from 9 a.m. to 5 p.m. and Tuesday, February 8, 2022, from 9 a.m. to 12 p.m., EST.

ADDRESSES: The meeting will be held via webinar. Registration information will be available on the Council's website by visiting www.gulfcouncil.org and clicking on the Meetings Tab and selecting Advisory Panel meetings, then Coral AP/SSC meeting.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; carrie.simmons@gulfcouncil.org, telephone: (813) 348-1630.

SUPPLEMENTARY INFORMATION:

Monday, February 7, 2022; 9 a.m.-5 p.m., EST

The meeting will begin with Introductions of Members, Adoption of Agenda, Approval of Minutes from the September 10, 2021 meeting, and review of Scope of Work and Contract, Roles and Responsibilities of the Coral AP and Coral SSC.

The AP and SSCs will review the Gulf of Mexico Fishery Management Council Mesophotic and Deepwater Coral Assessment; Introduction and Methodology for the Project, Site Selection and Literature Review of Potential Habitat Areas of Particular Concern (HAPC), Results of Site Prioritization for Management Purposes: Ecological and Vulnerability Assessment, Data Visualization Dashboard and Panel Feedback.

Tuesday, February 8, 2022; 9 a.m.-12 p.m., EST

The AP and SSC will review and discuss Deepwater Horizon Mesophotic and Deep Benthic Communities Restoration and upcoming activities and products and receive an overview of the Coral Reef Conservation Program Outcomes and Products titled: A proposal addressing changes in coral reef habitats and potential management implications to ensure the sustainability of coral reefs and associated fisheries habitats in the Gulf of Mexico; and, hold Panel discussion and feedback.

The AP and SSC will receive Public Comment and discuss any Other Business items. The meeting will adjourn by 12 p.m. EST on February 8, 2022.

The meeting will be via webinar only. You may register for the webinar by visiting www.gulfcouncil.org and clicking on the Advisory Panel meeting on the calendar. The Agenda is subject to change, and the latest version along with other meeting materials will be posted on www.gulfcouncil.org as they become available.

Although other non-emergency issues not on the agenda may come before the Advisory Panel and Scientific and Statistical Committee for discussion, in accordance with the Magnuson-Stevens Fishery Conservation and Management Act, those issues may not be the subject of formal action during this meeting. Actions of the Advisory Panel and Scientific and Statistical Committee will be restricted to those issues specifically identified in the agenda and any issues arising after publication of this notice that require emergency action under Section 305(c) of the Magnuson-Stevens Fishery Conservation and Management Act, provided the public has been notified of the Council's intent to take-action to address the emergency.

(Authority: 16 U.S.C. 1801 et seq.)

Dated: January 18, 2022.
Tracey L. Thompson,
Acting Deputy Director, Office of Sustainable Fisheries, National Marine Fisheries Service.

[FR Doc. 2022-01194 Filed 1-21-22; 8:45 am]

BILLING CODE 3510-22-P